DEPARTMENT OF ENERGY

Office of Defense Nuclear Nonproliferation

Nonproliferation and National Security Advisory Committee

AGENCY: Department of Energy.

ACTION: Notice of Partially Closed Meeting.

SUMMARY: This notice announces a meeting of the Nonproliferation and National Security Advisory Committee. The Federal Advisory Committee Act, 5 U.S.C. App. 2 sec. 10(a)(2) requires that public notice of these meetings be announced in the Federal Register.

DATES: Wednesday, May 31, 2000, 9 a.m. to 5 p.m.; Thursday, June 1, 2000, 9 a.m. to 5 p.m.; and Friday, June 2, 2000, 9 a.m. to 12 p.m.

ADDRESSES: Department of Energy, Room 4A-104, Forrestal Building, 1000 Independence Avenue, SW, Washington DC 20585.

Note: Members of the public are requested to contact Leslie Pitts at (202) 586-7994, in advance of the meeting (if possible), to expedite their entry to the Forrestal Building on the day of the public meeting.

FOR FURTHER INFORMATION CONTACT: Mr. Robert Waldron (202-586-2400), Designated Federal Officer, Office of Nonproliferation Research and Engineering (NN-20), Office of Defense Nuclear Nonproliferation, 1000 Independence Avenue, SW, Washington, DC 20585.

SUPPLEMENTARY INFORMATION: The purpose of the Committee: To provide the Secretary of Energy and the Deputy Administrator for Defense Nuclear Nonproliferation with advice, information, and recommendations on national research needs and priorities.

Purpose of the Meeting: To discuss the nonproliferation and national security research, development, and policy programs.

Tentative Agenda

Wednesday, May 31, 2000

9:00 a.m.-12:00 p.m.

Open Meeting

9:00 a.m.-9:15 a.m.

Session Opening

9:15 a.m.-10:00 a.m.

NNAC Findings and Recommendations Concerning the NN-20 R&D Program

10:00 a.m.-10:45 a.m.

NN-20 Action Plan to Address NNAC Recommendations

10:45 a.m.-11:00 a.m.

Break

11:00 a.m.-12:00 p.m.

Public Comments

12:00 p.m.

Adjourn Open Meeting

1:00 p.m.-5:00 p.m.

Closed Meeting

Thursday, June 1, 2000

9:00 a.m.-5:00 p.m.

Closed Meeting

Friday, June 2, 2000

9:00 a.m.-12:00 p.m.

Closed Meeting

Closed Meeting: In the interest of national security, after the public meeting on the morning of May 31, 2000, Secretary Richardson has determined that the remainder of the meeting will be closed to the public. In this regard, governing authorities permit closure of meetings where restricted data or other classified matters are discussed (see Federal Advisory Committee Act, 5 U.S.C. App. 2 sec. 10(d); and the Federal Advisory Committee Management regulation, 41 CFR 101-6.1023, “Procedures for Closing an Advisory Committee Meeting”, which incorporates by reference the Government in Sunshine Act, 5 U.S.C. 552b, sections 552b (c)(1) and (c)(3)).

Minutes: Minutes of the open portion of the meeting will be available for public review and copying approximately 30 days following the meeting at the Freedom of Information Public Reading Room, Room 1E-190, U.S. Department of Energy, 1000 Independence Avenue, SW, Washington, DC 20585 between the hours of 9:00 a.m. and 4:00 p.m., Monday through Friday, except Federal Holidays.

Issued at Washington, DC on May 10, 2000.
Rachel M. Samuel,
Deputy Advisory Committee, Management Officer.

[FR Doc. 00-12280 Filed 5-15-00; 8:45 am]

BILLING CODE 6450-01-P